DEPARTMENT OF THE INTERIOR

Bureau of Indian Affairs

[267A2100DD/AAKC001030/A0A501010.999900]

Receipt of Documented Petition for Federal Acknowledgment as an American Indian Tribe

AGENCY: Bureau of Indian Affairs, Interior.

ACTION: Notice.

SUMMARY: The Department of the Interior (Department) gives notice that the group known as the Gabrielino/Tongva Nation has filed a documented petition for Federal acknowledgment as an American Indian Tribe with the Assistant Secretary—Indian Affairs. The Department seeks comments and evidence from the public on the petition.

DATES: Comments and evidence must be postmarked by June 8, 2026.

ADDRESSES: Copies of the narrative portion of the documented petition, as submitted by the petitioner (with any redactions appropriate under 25 CFR 83.21(b)), and other information are available at the Office of Federal Acknowledgement's (OFA) website: www.bia.gov/as-ia/ofa. Submit any comments or evidence to: Department of the Interior, Office of the Assistant Secretary—Indian Affairs, Attention: Office of Federal Acknowledgment, Mail Stop 4071 MIB, 1849 C Street NW, Washington, DC 20240, or by email to: Ofa_Info@bia.gov.

FOR FURTHER INFORMATION CONTACT: Ms. Nikki Bass, OFA Director, Office of the Assistant Secretary—Indian Affairs, Department of the Interior, by phone: (202) 513-7650; or by email: Ofa_Info@bia.gov.

SUPPLEMENTARY INFORMATION: On July 31, 2015, the Department's revisions to 25 CFR part 83 became final and effective (80 FR 37861). A key goal of the revisions was to improve transparency through increased notice of petitions and providing improved public access to petitions. Today, the Department informs the public that a complete documented petition has been submitted under the current regulations, that portions of that petition are publicly available on the website identified above for easy access, and that we are seeking public comment early in the process on this petition.

Under 25 CFR 83.22(b)(1), OFA publishes notice that the following group has filed a documented petition for Federal acknowledgment as an American Indian Tribe to the Assistant Secretary-Indian Affairs: Gabrielino/Tongva Nation. The contact information for the petitioner is Ms. Sandonne Goad, 13191 Crossroads Pkwy North, Suite 375, City of Industry, California 91746.

Also, under 25 CFR 83.22(b)(1), OFA publishes on its website the following:

i. The narrative portion of the documented petition, as submitted by the petitioner (with any redactions appropriate under 25 CFR 83.21(b));

ii. The name, location, and mailing address of the petitioner and other information to identify the entity;

iii. The date of receipt;

iv. The opportunity for individuals and entities to submit comments and evidence supporting or opposing the petitioner's request for acknowledgment within 120 days of the date of the website posting; and

v. The opportunity for individuals and entities to request to be kept informed of general actions regarding a specific petitioner.

Authority

The Department publishes this notice and request for comment in the exercise of authority delegated by the Secretary of the Interior to the Assistant Secretary—Indian Affairs by Departmental Manual part 209, chapter 8.

William Henry Kirkland III,
Assistant Secretary for Indian Affairs.

[FR Doc. 2026-02380 Filed 2-5-26; 8:45 am]

BILLING CODE 4337-15-P